DEPARTMENT OF DEFENSE

Office of the Secretary

[Docket ID DoD-2014-OS-0136]

Privacy Act of 1974; System of Records

AGENCY: U.S. Strategic Command, DoD.

ACTION: Notice to amend a System of Records.

SUMMARY: The U.S. Strategic Command is amending a system of records notice in its existing inventory of record systems subject to the Privacy Act of 1974, as amended. The system notice is FSTRATCOM 02, entitled “Joint Satellite Communications (SATCOM) Management Enterprise (JSME).” This system collects and maintains authorized users and points of contact for account management, internal housekeeping, access control, need-to-know determinations, and operational requirements for satellite communications.

DATES: Comments will be accepted on or before October 24, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Mike Vance, U.S. Strategic Command (USSTRATCOM) J663, 901 SAC Boulevard, Suite 3J11, Offutt Air Force Base, NE 68113-6020; telephone (402) 232-5527.

SUPPLEMENTARY INFORMATION: The U.S. Strategic Command systems of records notices subject to the Privacy Act of 1974 (5 U.S.C. 552a), as amended, have been published in the Federal Register and are available from the address in FOR FURTHER INFORMATION CONTACT or at http://dpclo.defense.gov. The U.S. Strategic Command proposes to amend one system of records notice in its inventory of record systems subject to the Privacy Act of 1974 (5 U.S.C. 552a), as amended. The proposed amendment is not within the purview of subsection (r) of the Privacy Act of 1974 (5 U.S.C. 552a), as amended, which requires the submission of a new or altered system report.

Dated: September 18, 2014.
Aaron Siegel,
Alternate OSD Federal Register Liaison Officer, Department of Defense.

FSTRATCOM 02

System name:

Joint Satellite Communications (SATCOM) Management Enterprise (JSME) (June 20, 2012, 77 FR 37006)

Changes:

* * * * *

Retention and disposal:

Delete entry and replace with “PERMANENT. Transfer physical custody of electronic records to the National Archives for pre-accessioning 5 years after cutoff. Transfer legal custody of electronic records to the National Archives 25 years after cutoff, after declassification review.”

* * * * *

[FR Doc. 2014-22642 Filed 9-23-14; 8:45 am]

BILLING CODE 5001-06-P